ENVIRONMENTAL PROTECTION AGENCY

40 CFR Part 73

Sulfur Dioxide Allowance System

CFR Correction

In Title 40 of the Code of Federal Regulations, Parts 72 to 80, revised as of July 1, 2014, on page 159, in § 73.35, remove paragraphs (b)(2)(ii) and (iii).

[FR Doc. 2015-09232 Filed 4-20-15; 8:45 am]

BILLING CODE 1505-01-D